DEPARTMENT OF COMMERCE

National Oceanic and Atmospheric Administration

50 CFR Part 679

[Docket No. 001213348-0366-02; I.D. 121100A]

RIN 0648-AO44

Fisheries of the Exclusive Economic Zone Off Alaska; Removal of Groundfish Closure

Correction

In rule document 00-33162 beginning on page 82298 in the issue of Thursday, December 28, 2000, make the following correction:

§679.22 [Corrected]

On page 82299, in the third column, in §679.22(l), paragraph designation “(k)” should read “(l)”.

[FR Doc. C0-33162 Filed 1-5-01; 8:45 am]

BILLING CODE 1505-01-D

COMMODITY FUTURES TRADING COMMISSION

17 CFR Part 1

RIN 3038-AB56

Investment of Customer Funding

Correction

In rule document 00-32976 beginning on page 82270 in the issue of Thursday, December 28, 2000, make the following correction:

On page 82271, in the second column, in the first full paragraph, ten lines from the bottom, “permit” should read “permittted”.

[FR Doc. C0-32976 Filed 1-5-01; 8:45 am]

BILLING CODE 1505-01-D

DEPARTMENT OF THE INTERIOR

Bureau of Land Management

[WO-310-1310-PB-01-24 1A]

Extension of Approved Information Collection, OMB Approval Number 1004-0160

Correction

In notice document 00-32655 beginning on page 80904 in the issue of Friday, December 22, 2000, the docket number and OMB approval number are corrected to read as set forth above.

[FR Doc. C0-32655 Filed 1-5-01; 8:45 am]

BILLING CODE 1505-01-D

DEPARTMENT OF LABOR

Employment and Training Administration

20 CFR Part 655

RIN 1215-AB09

Labor Condition Applications and Requirements for Employers Using Nonimmigrants on H-1B Visas in Specialty Occupations and as Fashion Models; Labor Certification Process for Permanent Employment of Aliens in the United States

Correction

In rule document 00-32088 beginning on page 80110 in the issue of Wednesday, December 20, 2000, make the following correction:

§655.736 [Corrected]

On page 80224, in the second column, in §655.736(b)(2)(iii), the second paragraph designation “(ii)” should read “(iii)”.

[FR Doc. C0-32088 Filed 1-5-01; 8:45 am]

BILLING CODE 1505-01-D